DEPARTMENT OF EDUCATION

Notice Inviting Statements of Interest From Nonprofit Organizations Interested in Partnering To Expand the #GoOpen Network

AGENCY: Office of the Secretary, Department of Education.

ACTION: Notice.

SUMMARY: The Department through the Office of the Secretary's Office of Educational Technology (OET) created the #GoOpen Network in October of 2015, to support the use of openly licensed educational resources, by establishing a network of mentoring relationships with experienced districts and States providing support to those districts that were new to the use of open resources. To support this work, OET is seeking to select and partner with a nonprofit organization or a consortium of nonprofit organizations to further expand and enhance the network. Thus, this notice outlines the criteria to be used for selecting partner organizations; invites statements of interest from nonprofit organizations interested in partnering to build on and expand the #GoOpen network; and announces the date by which organizations must submit these statements of interest in order to be considered for selection.

A call for statements of interest was first published in the blog post #GoOpen: More than a Hashtag on May 10, 2017. We are publishing a new request for statements of interest through this Federal Register notice in order to more widely publicize the call and reach a broader group of interested stakeholder organizations. Respondents to the previous call through the blog are encouraged to reapply by submitting a statement of interest in accordance with this notice; prior statements will not be considered.

DATES: Deadline for transmittal of statements of interest: January 16, 2018.

ADDRESSES: Submit your statement of interest electronically to tech@ed.gov with the subject line “#GoOpen Statement of Interest.”

FOR FURTHER INFORMATION CONTACT: Sara Trettin, U.S. Department of Education, 400 Maryland Avenue SW., Room 11152, Washington, DC 20202-7240. Telephone: (202) 453-6604 or by email: tech@ed.gov.

If you use a telecommunications device for the deaf (TDD) or a text telephone (TTY), call the Federal Relay Service (FRS), toll free, at 1-800-877-8339.

SUPPLEMENTARY INFORMATION: The Department of Education's #GoOpen movement supports States and districts choosing to transition to the use of openly licensed educational resources by establishing a network of mentoring relationships between experienced districts and States and those new to the use of open educational resources.¹ #GoOpen States and districts are sharing new approaches to professional learning for teachers, developing systems for tagging and curating resources that offer students and teachers options for personalizing learning, and building robust technology infrastructure to support curating, creating, adapting and sharing openly licensed educational resources. To date, #GoOpen has a network of 20 States and 114 districts committed to documenting and sharing their implementation strategies and partnering with committed nonprofit organizations, policymakers, foundations, and private-sector companies. The #GoOpen movement and the growing network of States, districts, and educators has not only provided a space for robust discussions about the merits of openly licensed educational resources but also supported broader dialogue and dissemination of information on the policies and practices that impact teaching, learning, and collaboration.

¹ Openly licensed educational resources, or open educational resources, are teaching, learning, and research resources that reside in the public domain or have been released under a license that permits their use, modification, and sharing with others.

OET is interested in working with one or more nonprofit organizations or a consortium of nonprofit organizations to build on and expand the #GoOpen network. In addition to connecting additional States and districts to #GoOpen, the partnership will (1) engage education leaders across a network of States and districts to form regional communities of practice; (2) facilitate the sharing of openly licensed educational resources including those that are accessible (e.g., text to speech, captioning and highlighting features, embedded videos, font and size choices) and the dissemination of promising practices in teaching and learning; and (3) integrate evidence of the efficacy of openly licensed resources into the broader education policy dialogue.

Criteria for Partner Organization(s): The organization(s) best suited to helping the Department build on and expand the #GoOpen network must be an existing nonprofit organization(s):

(a) With experience assisting educators, such as teachers, district leaders, superintendents, and other educational resource and technology staff, in selecting and implementing a variety of digital and non-digital learning strategies. The organization(s) must have specific expertise in providing assistance to stakeholders with respect to sharing, using, and collaborating on the use of open educational resources using a variety of digital learning platforms. In addition, the organization(s) must have a positive record of leading or coordinating discussions on a range of education policy issues, especially related to the promise and perils of digital learning and increasing educational opportunity for an increasingly diverse student population, including children with disabilities who can use or require technology accommodations;

(b) That commits to collaborate with OET in providing leadership in the development of regional communities of practice and building networks of impact comprising a strong and diverse consortium of committed partner organizations. The organization(s) must coordinate with OET to (1) design the structure of the expanded #GoOpen network; (2) in collaboration with OET, design, develop, and lead outreach activities geared toward developing a coalition of local leaders and regional communities of practice; (3) create experiences (e.g. in-person and virtual professional learning opportunities, etc.) that encourage States, districts, and educators to build on initial commitments; (4) capture and share promising practices; (5) integrate evidence of the efficacy of openly licensed resources into the broader education policy dialogue; and (6) advance the education policy dialogue (e.g. through articles, presentations, etc.) on the use of technology to transform learning; and

(c) With the resources necessary to support its own activities during this partnership. OET will not provide funding for organization(s) in this partnership.²

² Note that this is not a notice inviting applications for any grant program.

Submission Requirements: Interested organizations must submit a statement of interest that describes:

(a) The organization's experience assisting educators in selecting and implementing digital and non-digital learning strategies;

(b) The organization's expertise in providing assistance to stakeholders with respect to sharing, using, and collaborating on the use of open educational resources using a variety of digital learning platforms;

(c) The organization's record of leading or coordinating discussion on a range of education policy issues;

(d) The organization's commitment to collaborate with OET in providing leadership in the development of regional communities of practice and building networks of impact comprising a strong and diverse consortium of committed partner organizations;

(e) A possible design for the structure of the expanded #GoOpen network;

(f) The organization's role and approach to scaling the #GoOpen movement through regional communities of practice;

(g) The organization's approach to creating experiences that encourage States, districts, and educators to build on initial commitments and capturing and sharing promising practices;

(h) The organization's strategy to integrate evidence of the efficacy of openly licensed resources into the broader education policy dialogue and advance the education policy dialogue on the use of technology to transform learning;

(i) How the organization will support its own activities during this partnership;

(j) Any other information relevant to the organization's experience in education or technology policy; and how it might carry out the activities to partner with the Department and otherwise help to implement the #GoOpen network, and

(k) Contact information (name of the organization, address, contact person's name, email address etc.).

Each statement of interest will be evaluated by taking into account the submission requirements listed above.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: November 28, 2017.
Joe Conaty,
Office of the Secretary, Acting Director for the Office of Educational Technology.

[FR Doc. 2017-25913 Filed 11-30-17; 8:45 am]

BILLING CODE 4000-01-P